ENVIRONMENTAL PROTECTION AGENCY

[EPA-HQ-OECA-2013-0303; FRL-9907-20-OEI]

Information Collection Request Submitted to OMB for Review and Approval; Comment Request; NSPS for Equipment Leaks of VOC in Petroleum Refineries (Renewal)

AGENCY: Environmental Protection Agency (EPA).

ACTION: Notice.

SUMMARY: The Environmental Protection Agency has submitted an information collection request (ICR), “NSPS for Equipment Leaks of VOC in Petroleum Refineries (40 CFR Part 60, Subparts GGG and GGGa) (Renewal)” (EPA ICR No. 0983.14, OMB Control No.2060-0067), to the Office of Management and Budget (OMB) for review and approval in accordance with the Paperwork Reduction Act (44 U.S.C. 3501 et seq). This is a proposed extension of the ICR, which is currently approved through April 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 10, 2014.

ADDRESSES: Submit your comments, referencing Docket ID Number EPA-HQ-OECA-2013-0303, to: (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Owners or operators of the affected facilities described must make one-time-only notifications. Owners or operators are also required to maintain records of the occurrence and duration of any startup, shutdown, or malfunction in the operation of an affected facility, or any period during which the monitoring system is inoperative. Monitoring requirements specific to Equipment Leaks of VOC in Petroleum Refineries provide information on which components are leaking VOCs. NSPS Subpart GGG references the compliance requirements of NSPS subpart VV; and NSPS subpart GGGa references the compliance requirements of NSPS subpart VVa. Periodically, owners or operators are required to record information identifying leaking equipment, repair methods used to stop the leaks, and dates of repair. The time period for this recordkeeping varies and depends on equipment type and leak history. Semiannual reports are required to measure compliance with the standards of NSPS Subparts VV and VVa, as referenced by NSPS subparts GGG and GGGa. These notifications, reports, and records are essential in determining compliance and in general, are required of all sources subject to NSPS. Any owner or operator subject to the provisions of this part shall maintain a file of these measurements, and retain the file for at least two years following the date of such measurements, maintenance reports, and records.

Form Numbers: None.

Respondents/affected entities: Petroleum refineries.

Respondent's obligation to respond: Mandatory (40 CFR part 60, Subparts GGG and GGGa).

Estimated number of respondents: 130.

Frequency of response: Initially and semiannually.

Total estimated burden: 24,886 hours (per year). “Burden” is defined at 5 CFR 1320.3(b).

Total estimated cost: $2,434,325 (per year), including no annualized capital/startup or operation & maintenance costs.

Changes in the Estimates: There are several changes to the estimated burden as currently identified in the OMB Inventory of Approved Burdens. These differences are not due to any program changes. There is a decrease in the respondent and Agency burden for subpart GGG due to a correction of the number of respondents from 135 to 130. In addition, there is an increase in the respondent burden for subpart GGGa due to a mathematical correction. The previous ICR incorrectly calculated the amount of time it would take to record operating parameters at large and small refineries for subpart GGGa. This ICR also updates all burden costs to reflect current labor rates. These changes result in an overall increase in respondent burden and a decrease in Agency burden for both subparts combined.

Richard T. Westlund,
Acting Director, Collection Strategies Division.

[FR Doc. 2014-05216 Filed 3-10-14; 8:45 am]

BILLING CODE 6560-50-P